Proclamation 9330 of September 25, 2015

National Public Lands Day, 2015

By the President of the United States of America

A Proclamation

America is blessed with the most beautiful landscapes in the world. Natural wonders across our country—from centuries-old glaciers to miles-wide canyons—offer a window into our past and a vision for our future. Among our greatest legacies are our National Parks and public lands, steeped in millennia of living history and shaped by incredible geological force. Today, we join in efforts to protect these timeless treasures and encourage all to enjoy their splendor.

On National Public Lands Day, people from every corner of our country will come together to help preserve our unique natural spaces in all 50 States. In what has become the largest volunteer event for public lands in America, this day offers people the opportunity to play an active role in safeguarding nature's priceless gifts for future generations. From building winding trails that lead to pristine places to planting seeds and saplings that will grow into towering trees, Americans can participate in efforts to maintain our beloved parks and monuments and make a lasting difference in the land we love.

All Americans deserve the chance to enjoy our parks and waters—no matter who they are or where they live. In that spirit, I launched the Every Kid in a Park initiative earlier this year, which provides fourth graders and their families with free admission to our National Parks and other Federal lands and waters. And through the America's Great Outdoors Initiative, we are expanding access to and restoring vibrant landscapes.

In addition to offering majestic views and vistas, our scenic sites provide critical economic benefits to communities across our country. Last year, almost 300 million visitors to our National Parks spent approximately $16 billion and supported over 275,000 jobs. That is why my Administration has set aside more public lands and waters than any other in history, and why I have established or expanded 19 National Monuments since taking office.

On this day, let us pay tribute to our majestic past by renewing our commitment to maintaining our Nation's public lands and ensuring our national inheritance remains a birthright for generations of Americans to come. I urge all people to “Find Your Park” by visiting www.FindYourPark.com and to take advantage of the National Parks offering free admission today. Together, we can continue to be good stewards of our earth and work to increase access to outdoor opportunities for all.

NOW, THEREFORE, I, BARACK OBAMA, President of the United States of America, by virtue of the authority vested in me by the Constitution and the laws of the United States, do hereby proclaim September 26, 2015, as National Public Lands Day. I encourage all Americans to participate in a day of public service for our lands.

IN WITNESS WHEREOF, I have hereunto set my hand this twenty-fifth day of September, in the year of our Lord two thousand fifteen, and of the Independence of the United States of America the two hundred and fortieth.

[FR Doc. 2015-25060

Filed 9-29-15; 11:15 am]

Billing code 3295-F5-P